DEPARTMENT OF STATE

[Public Notice 4448]

Determination Pursuant to Section 2(b)(2) of the Migration and Refugee Assistance Act of 1962, as Amended

Pursuant to section 2(b)(2) of the Migration and Refugee Assistance Act of 1962, as amended, 22 U.S.C. 2601(b)(2), and the functions and authorities delegated to the Secretary of State, or his or her delegate, by Presidential Determination 99-6 of November 30, 1998, and subsequently re-delegated to me by Delegation of Authority of January 5, 1999, I hereby designate refugees and conflict victims in Liberia as qualifying for assistance under Section 2(b)(2) of that Act, and determine that such assistance will contribute to the foreign policy interests of the United States.

This determination shall be transmitted to the President and published in the Federal Register.

Dated: August 8, 2003.
Arthur E. Dewey,
Assistant Secretary of State, Bureau of Population, Refugees, and Migration.

[FR Doc. 03-20938 Filed 8-14-03; 8:45 am]

BILLING CODE 4710-33-M